DEPARTMENT OF COMMERCE

National Oceanic and Atmospheric Administration

50 CFR Part 622

[Docket No. 130403320-4891-02; RTID 0648-XE740]

Fisheries of the Caribbean, Gulf of Mexico, and South Atlantic; Snapper-Grouper Fishery of the South Atlantic; 2025-2026 Recreational Fishing Season for Black Sea Bass

AGENCY: National Marine Fisheries Service (NMFS), National Oceanic and Atmospheric Administration (NOAA), Commerce.

ACTION: Temporary rule; recreational fishing season.

SUMMARY: NMFS announces that the recreational fishing season for black sea bass in South Atlantic Federal waters will extend throughout the 2025-2026 recreational fishing year. Announcing the length of the recreational fishing season for black sea bass is one of the accountability measures (AMs) for the recreational sector. This announcement allows recreational fishers to maximize their opportunity to harvest the recreational annual catch limit (ACL) for black sea bass while NMFS manages harvest to protect the black sea bass resource.

DATES: This temporary rule is effective from April 23, 2025, through March 31, 2026.

FOR FURTHER INFORMATION CONTACT: Mary Vara, NMFS Southeast Regional Office, telephone: 727-824-5305, email: mary.vara@noaa.gov.

SUPPLEMENTARY INFORMATION: The South Atlantic snapper-grouper fishery includes black sea bass south of 35°15.19′ N latitude, which is due east of Cape Hatteras Light, North Carolina, and is managed under the Fishery Management Plan for the Snapper-Grouper Fishery of the South Atlantic Region (FMP). The South Atlantic Fishery Management Council and NMFS prepared the FMP, the FMP was approved by the Secretary of Commerce, and NMFS implements the FMP through regulations at 50 CFR part 622 under the authority of the Magnuson-Stevens Fishery Conservation and Management Act (Magnuson-Stevens Act). Black sea bass is not managed by the FMP or regulated by 50 CFR part 622 north of 35°15.19′ N latitude in South Atlantic Federal waters, the latitude of Cape Hatteras Light, North Carolina; black sea bass north of 35°15.19′ N latitude is regulated by 50 CFR part 648.

The recreational fishing year for black sea bass is April 1 through March 31. One of the recreational AMs for black sea bass requires that before the April 1 start date of each recreational fishing year, NMFS will project the length of the recreational fishing season based on when NMFS projects recreational landings of black sea bass will reach its ACL, and announce the recreational season end date in the Federal Register [50 CFR 622.193(e)(2)]. The purpose of this AM is to allow recreational fishermen to maximize their opportunities to harvest the recreational ACL through a more predictable recreational season while NMFS manages harvest within the recreational ACL to protect the stock from experiencing adverse biological consequences.

The recreational ACL for black sea bass during the 2025-2026 fishing year is 310,602 pounds (lb) or 140,887 kilograms (kg) in gutted weight, or 366,510 lb (166,246 kg) in round weight [50 CFR 622.193(e)(2)].

NMFS estimates that recreational landings of black sea bass during the 2025-2026 fishing year will be less than the 2025-2026 recreational ACL. To make this determination, NMFS compared recreational landings of black sea bass in the last 3 fishing years with available data (2021-2022 through 2023-2024) to the recreational ACL for the 2025-2026 fishing year. Recreational landings in each of these past 3 fishing years have been less than the 2025-2026 recreational ACL, and NMFS expects similar landings for the 2025-2026 fishing season. Therefore, because NMFS projects that the recreational landings of black sea bass will be less than the 2025-2026 recreational ACL, NMFS does not expect to close the recreational harvest of black sea bass during the fishing year. Accordingly, the season end date for the recreational harvest of black sea bass in South Atlantic Federal waters is March 31, 2026.

Classification

NMFS issues this action pursuant to section 305(d) of the Magnuson-Stevens Act. This action is required by 50 CFR 622.193(e)(2), issued pursuant to section 304(b), and is exempt from review under Executive Order 12866.

Pursuant to 5 U.S.C. 553(b)(B), there is good cause to waive prior notice and an opportunity for public comment on this action, as notice and comment is unnecessary. Such procedures are unnecessary because the rule establishing the recreational AM has already been subject to notice and comment, and all that remains is for NMFS to notify the public of the recreational season length.

Authority: 16 U.S.C. 1801 et seq.

Dated: March 17, 2025.
Karen H. Abrams,
Acting Director, Office of Sustainable Fisheries, National Marine Fisheries Service.

[FR Doc. 2025-04930 Filed 3-21-25; 8:45 am]

BILLING CODE 3510-22-P